FEDERAL COMMUNICATIONS COMMISSION

Open Commission Meeting Scheduled for February 13, 2003, Cancelled; Sunshine Act

February 11, 2003.

The Federal Communications Commission has cancelled the Open Meeting on the subjects listed below, previously scheduled for Thursday, February 13, 2003, at 445 12th Street SW., Washington, DC.

Item No., Bureau, and Subject

1—Office of Engineering and Technology—Title: Revisions of Part 15 of the Commission's Rules Regarding Ultra-Wideband Transmission Systems (ET Docket No. 98-153). Summary: The Commission will consider a Memorandum Opinion and Order and Further Notice of Proposed Rulemaking addressing the fourteen petitions for reconsideration filed in response to the First Report and Order in this proceeding. The First Report and Order established the standards that permit the unlicensed operation of ultra-wideband devices.

2—Consumer and Governmental Affairs—Title: Amendment of Part 1, Subpart N of the Commission's Rules Concerning Non-Discrimination on the Basis of Disability in the Commission's Programs and Activities. Summary: The Commission will consider an Order to update and enhance its rules regarding access for persons with disabilities to Commission programs and activities, as found in Subpart N of Part 1 of the Commission's rules.

3—Wireline Competition—Title: Review of the Section 251 Unbundling Obligations of Incumbent Local Exchange Carriers (CC Docket No. 01-338), Implementation of the Local Competition Provisions of the Telecommunications Act of 1996 (CC Docket No. 96-98), Deployment of Wireline Services Offering Advanced Telecommunications Capability (CC Docket No. 98-147), and Appropriate Framework for Broadband Access to the Internet over Wireline Facilities (CC Docket No 02-33). Summary: The Commission will consider a Report and Order concerning incumbent local exchange carriers' obligation to make elements of their networks available on an unbundled basis.

Additional information concerning this meeting may be obtained from David Fiske, Office of Media Relations, telephone number (202) 418-0500; TTY 1-888-835-5322.

Federal Communications Commission.
Marlene H. Dortch,
Secretary.

[FR Doc. 03-3914 Filed 2-12-03; 4:13 pm]

BILLING CODE 6712-01-M